THE PRESIDENT'S CRITICAL INFRASTRUCTURE PROTECTION BOARD

National Strategy To Secure Cyberspace

October 11, 2002.

AGENCY: President's Critical Infrastructure Protection Board, Executive Office Of the President, The White House.

ACTION: Notice of pending request for public comment regarding the National Strategy to Secure Cyberspace for comment, released on September 18, 2002.

SUMMARY: Pursuant to the President's charge in Executive Order 12321, the President's Critical Infrastructure Protection Board (the “Board”) has been engaged in development of the National Strategy to Secure Cyberspace. On September 18, 2002, the Board released to the public a draft of the Strategy “For Comment” (the “Strategy”). The Strategy was made available online at http://www.securecyberspace.gov for viewing and downloading. At the time of the release of the Strategy, the Board invited public comments and set a deadline of November 18, 2002 for such comments. The most efficient way to provide public comment is to do so online through the feedback link at http://www.securecyberspace.gov. By this Notice, the Board continues to solicit further comments and views from the public on the Strategy.

DATES: Comments may be submitted through November 18, 2002.

ADDRESSES: Comments may be submitted electronically as provided at http://www.securecyberspace.gov. In addition, written comments may be sent to: PCIPB/Strategy Public Comment; The White House; Washington, DC 20502. Individual hard copies of the draft Strategy may be obtained by calling 202-456-5420.

FOR FURTHER INFORMATION CONTACT: Tommy J. Cabe, (202) 456-5420.

SUPPLEMENTARY INFORMATION: On October 16, 2001, the President created the Board by Executive Order 12321. The President noted that “[t]he information technology revolution has changed the way business is transacted, government operates, and national defense is conducted. Those three functions now depend on an interdependent network of critical information infrastructures.” In the Executive Order, the President directed the Board to “recommend policies and coordinate programs for protecting information systems for critical infrastructure,” and called for the Board to “coordinate outreach to and consultation with the private sector, * * * State and local governments, [and] communities and representatives from academia and other relevant elements of society.”

Pursuant to the President's charge, the Board has been engaged in development of the National Strategy to Secure Cyberspace. On September 18, 2002, the Board released to the public a draft Strategy “For Comment,” identifying 24 strategic goals and listing over 80 recommendations. The Strategy was made available online at http://www.securecyberspace.gov for viewing and downloading.

The Strategy was developed based on input from a broad spectrum of individuals and groups that represent the owners and operators of cyberspace, as well as from the key sectors that rely on cyberspace, including Federal departments and agencies, private companies, State and local governments, educational institutions, nongovernmental organizations, and the general public. Town hall meetings to facilitate discussion and stimulate input were held during the Spring in Denver, Chicago, Portland, Oregon, and Atlanta and this month in Philadelphia and Boston. In addition, a list of 53 key questions was compiled, published, and publicized to spark public debate and facilitate informed input. The Board will convene additional town hall meetings around the country in the next few weeks to raise awareness about cybersecurity issues, and to solicit and receive the views and input of concerned citizens regarding the Strategy. Town hall meetings will be held in Pittsburgh, PA (October 24), New York, NY (November 7), Phoenix, AZ (November 14). For further information about specific town hall meetings, see http://www.securecyberspace.gov.

At the time of the release of the Strategy, the Board invited public comments and set a deadline of November 18, 2002 for such comments. By this Notice, the Board continues to solicit further comments and views from the public on the draft Strategy. The most efficient way to provide public comment is to do so online through the feedback link at http://www.securecyberspace.gov. In order to facilitate review and consideration of public comment, commenters are requested to use this electronic feedback link if at all possible. Comments will also be accepted if mailed to the postal address listed below, but it is requested that such commenters also provide an electronic version of their comments as well as the hard copy (e.g., CD or floppy disc) if possible. In addition, it is requested that all commenters, including those submitting their comments in hard copy form rather than online, make every effort to organize the comments by reference to specific sections of the Strategy and if applicable) the numbered recommendation or discussion topic commented upon.

Those preferring to submit their comments by hard copy (preferably with an accompanying electronic version of the comment) should send them to: PCIPB/Strategy Public Comment; The White House; Washington, DC 20502. The Board will consider all relevant comments in the further development of the Strategy. However, there are no plans to respond individually to each comment.

Dated: October 11, 2002.
Richard A. Clarke,
Chair, President's Critical Infrastructure Protection Board

[FR Doc. 02-26456 Filed 10-16-02; 8:45 am]

BILLING CODE 3165-D3-P